DEPARTMENT OF ENERGY

Federal Energy Regulatory Commission

[Docket No. EG02-5-000]

Westward Energy, LLC; Notice of Application for Commission Determination of Exempt Wholesale Generator Status

October 19, 2001.

Take notice that on October 11, 2001, Westward Energy, LLC, 2727 NW Westover, Portland, Oregon 97210, filed with the Federal Energy Regulatory Commission (Commission), an application for determination of exempt wholesale generator status pursuant to Part 365 of the Commission's regulations.

The Applicant proposed to develop and own a natural gas-fired electric generation plant. The facility will have a maximum capacity of 520 megawatts. The facility will be located in Columbia County, Oregon. The facility is scheduled to be completed in May 2004.

Any person desiring to be heard concerning the application for exempt wholesale generator status should file a motion to intervene or comments with the Federal Energy Regulatory Commission, 888 First Street, N.E., Washington, D.C. 20426, in accordance with Rules 211 and 214 of the Commission's Rules of Practice and Procedure (18 CFR 385.211 and 385.214). The Commission will limit its consideration of comments to those that concern the adequacy or accuracy of the application. All such motions and comments should be filed on or before October 29, 2001, and must be served on the applicant. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-26849 Filed 10-24-01; 8:45 am]

BILLING CODE 6717-01-P